DEPARTMENT OF TRANSPORTATION

Federal Motor Carrier Safety Administration

[Docket No. FMCSA-2011-0365]

Qualification of Drivers; Exemption Applications; Vision

AGENCY: Federal Motor Carrier Safety Administration (FMCSA), DOT.

ACTION: Notice of applications for exemptions; request for comments.

SUMMARY: FMCSA announces receipt of applications from thirteen individuals for exemption from the vision requirement in the Federal Motor Carrier Safety Regulations. If granted, the exemptions would enable these individuals to qualify as drivers of commercial motor vehicles (CMVs) in interstate commerce without meeting the Federal vision requirement.

DATES: Comments must be received on or before February 23, 2012.

ADDRESSES: You may submit comments bearing the Federal Docket Management System (FDMS) Docket No. FMCSA-2011-0365 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-(202) 493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Program Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The thirteen individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Daniel C. Berry

Mr. Berry, age 46, has had a prosthetic right eye due to a traumatic injury sustained in childhood. The best corrected visual acuity in left eye, 20/20. Following an examination in 2011, his optometrist noted, “Mr. Berry has sufficient vision to perform the driving tasks required to operate a commercial vehicle.” Mr. Berry reported that he has driven straight trucks for 27 years, accumulating 540,000 miles and tractor-trailer combinations for 27 years, accumulating 540,000 miles. He holds a Class A Commercial Driver's License (CDL) from Arkansas. His driving record for the last 3 years shows no crashes and no convictions for moving violations in a Commercial Motor Vehicle (CMV).

Jeffrey H. Bohr

Mr. Bohr, 42, has had a prosthetic left eye due to a traumatic injury sustained in 1987. The best corrected visual acuity in his right eye is 20/20. Following an examination in 2011, his optometrist noted, “As previously stated Mr. Bohr has completely normal vision in his right eye and should be able to perform driving tasks in a commercial vehicle safely.” Mr. Bohr reported that he has driven straight trucks for 7 years, accumulating 385,000 miles. He holds a Class B CDL from Iowa. His driving record for the last 3 years shows no crashes and no convictions for moving violations in a CMV.

William J. Byron

Mr. Byron, 66, has had a macular scar in his right eye due to a traumatic injury sustained in 1977. The best corrected visual acuity in his right eye is 20/125 and in his left eye, 20/20. Following an examination in 2011, his ophthalmologist noted, “Based on his history and my clinical exams for nearly two years, it is my opinion that Mr. Byron has sufficient vision to safely drive a commercial vehicle.” Mr. Byron reported that he has driven straight trucks for 10 years, accumulating 120,000 miles and tractor-trailer combinations for 27 years, accumulating 2.295 million miles. He holds a Class A CDL from North Carolina. His driving record for the last 3 years shows no crashes and no convictions for moving violations in a CMV.

Michael P. Callihan

Mr. Callihan, 49, has had amblyopia in his right eye since childhood. The best corrected visual acuity in his right eye is 20/70 and in his left eye, 20/20. Following an examination in 2011, his optometrist noted, “Upon review of Mr. Callihan's test results I believe that in my medical opinion, he has sufficient vision to perform the driving tasks required to operate a commercial vehicle.” Mr. Callihan reported that he has driven straight trucks for 20 years, accumulating 150,000 miles. He holds a Class B CDL from Ohio. His driving record for the last 3 years shows no crashes and no convictions for moving violations in a CMV.

John Edmondson

Mr. Edmondson, 66, has had amblyopia in left eye since childhood. The best corrected visual acuity in his right eye is 20/400 and in his left eye, 20/25. Following an examination in 2011, his optometrist noted, “In my medical opinion Mr. Edmondson has sufficient vision to perform the driving tasks required to operate a commercial vehicle.” Mr. Edmondson reported that he has driven tractor-trailer combinations for 37 years, accumulating 925,000 miles. He holds a Class D operator's license from Alabama. His driving record for the last 3 years shows no crashes and no convictions for moving violations in a CMV.

Richard P. Frederiksen

Mr. Frederiksen, 29, has had a prosthesis left eye since age 3 due to a traumatic injury. The best corrected visual acuity in his right eye is 20/120. Following an examination in 2011, his optometrist noted, “In my professional opinion, Mr. Frederiksen has sufficient vision to perform the driving tasks required to operate a commercial vehicle.” Mr. Frederiksen reported that he has driven tractor-trailer combinations for 11 years, accumulating 550,000 miles. He holds a Class A CDL from Wyoming. His driving record for the last 3 years shows no crashes and no convictions for moving violations in a CMV.

Stephen J. Hall

Mr. Hall, 46, has had amblyopia in his right eye due since childhood. The best corrected visual acuity in his right eye is 20/150 and in his left eye, 20/20. Following an examination in 2011, his optometrist noted, “I certify that Stephen James Hall, in my medical opinion, has sufficient vision at this point in time to perform the driving tasks required to operate a commercial vehicle.” Mr. Hall reported that he has driven straight trucks for 22 years, accumulating 1.1 million miles and tractor-trailer combinations for 22 years, accumulating 1.65 million miles. He holds a Class A CDL from Washington. His driving record for the last 3 years shows no crashes and no convictions for moving violations in a CMV.

Lonnie B. Hicks, Jr.

Mr. Hicks, 33, has had congenial optic atrophy in his right eye since birth. The best corrected visual acuity in his right eye is hand motion vision and in his left eye, 20/20. Following an examination in 2011, his optometrist noted, “Mr. Hicks has had this condition since birth and has sufficient vision to continue operating a commercial vehicle.” Mr. Hicks reported that he has driven straight trucks for 15 years, accumulating 270,000 miles and tractor-trailer combinations for 15 years, accumulating 198,000. He holds a Class D operator's license from Oklahoma. His driving record for the last 3 years shows no crashes and no convictions for moving violations in a CMV.

Samuel V. Holder

Mr. Holder, 61, has had ocular hypertension in his right eye since 2009 and retinal detachment in his left eye since 2006. The best corrected visual acuity in his right eye is 20/20 and in his left eye, 20/200. Following an examination in 2011, his ophthalmologist noted, “I felt his vision was good enough to drive a commercial or personal vehicle. I certify his vision is good enough to do this.” Mr. Holder reported that he has driven straight trucks for 10 years, accumulating 200,000 miles and tractor-trailer combinations for 41 years, accumulating 3.5 million miles. He holds a Class A CDL from Illinois. His driving record for the last 3 years shows no crashes and no convictions for moving violations in a CMV.

Timothy L. Klompien

Mr. Klompien, 51, has had a retina detachment in his right eye due to a traumatic injury sustained in 2006. The best corrected visual acuity in his right eye is 20/200 and in his left eye, 20/20. Following an examination in 2011, his ophthalmologist noted, “I feel he has sufficient vision to perform the driving tasks required to operate a commercial vehicle.” Mr. Klompien reported that he has driven straight trucks for 5 years, accumulating 150,000 miles and tractor-trailer combinations for 15 years, accumulating 1.05 million miles. He holds a Class A CDL from Montana. His driving record for the last 3 years shows no crashes and no convictions for moving violations in a CMV.

Jerry L. Pettijohn

Mr. Pettijohn, 62, has had cataracts in his right eye since 1987. The best corrected visual acuity in his right eye is hand motion vision and in his left eye, 20/20. Following an examination in 2011, his optometrist noted, “I certify that in my medical opinion, Jerry Pettijohn does have sufficient vision to perform the driving tasks required to operate a commercial vehicle and should qualify for a vision exemption.” Mr. Pettijohn reported that he has driven straight trucks for 44 years, accumulating 880,000 miles and tractor-trailer combinations for 17 years, accumulating 935,000 miles and buses for 5 years accumulating 25,000 miles. He holds a Class D operator's license from Oklahoma. His driving record for the last 3 years shows no crashes and no convictions for moving violations in a CMV.

Jake Richter

Mr. Richter, 27, has had corneal scarring in his left eye since 1999. The best corrected visual acuity in his right eye is 20/20 and in his left eye, 20/400. Following an examination in 2011, his optometrist noted, “My medical opinion is that Mr. Richter has sufficient vision to perform the driving tasks required to operate a commercial vehicle.” Mr. Richter reported that he has driven straight trucks for 12 years, accumulating 9,000 miles and tractor-trailer combinations for 3 years, accumulating 18,000 miles. He holds a Class A CDL from Kansas. His driving record for the last 3 years shows no crashes and no convictions for moving violations in a CMV.

Bradley S. Sanders

Mr. Sanders, 43, has had amblyopia in his left eye since birth. The best corrected visual acuity in his right eye is 20/20 and in his left eye, 20/60. Following an examination in 2011, his ophthalmologist noted, “At this time, given Mr. Bradley Sanders' visual acuity bilaterally, the patient has sufficient vision to perform the driving tasks to operate a commercial vehicle.” Mr. Sanders reported that he has driven straight trucks for 8 years, accumulating 21,840 miles. He holds a Class D operator's license from New Mexico. His driving record for the last 3 years shows no crashes and no convictions for moving violations in a CMV.

Request for Comments

In accordance with 49 U.S.C. 31136(e) and 31315, FMCSA requests public comment from all interested persons on the exemption petitions described in this notice. The Agency will consider all comments received before the close of business February 23, 2012. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: January 13, 2012.
Larry W. Minor,
Associate Administrator for Policy.

[FR Doc. 2012-1390 Filed 1-23-12; 8:45 am]

BILLING CODE 4910-EX-P